EXPORT-IMPORT BANK

[Public Notice: 2017-6003]

Agency Information Collection Activities: Comment Request; EIB 11-01, Generic Clearance for the Collection of Qualitative Feedback on Agency Service Delivery

AGENCY: Export-Import Bank of the U.S.

ACTION: Submission for OMB review and comments request.

SUMMARY: The proposed clearance is designed to allow Ex-Im Bank to survey for the purpose of gaining insights into customers' experiences with the agency and to evaluate product and performance effectiveness. Customers' responses will help to identify potential areas of service improvement and rate overall program experiences.

DATES: Comments should be received on or before July 31, 2017, to be assured of consideration.

ADDRESSES: Comments may be submitted electronically on http://www.regulations.gov or by mail to Mardel West, Export-Import Bank of the United States, 811 Vermont Ave. NW., Washington, DC 20571.

SUPPLEMENTARY INFORMATION: Title: EIB 11-01, Generic Clearance for the Collection of Feedback on Electronic Interfaces with Customers.

OMB Number: 3048-0036.

Type of Review: Renew.

Need and Use: Improving agency programs requires ongoing assessment of service delivery, by which we mean systematic review of the operation of a program compared to a set of explicit or implicit standards, as a means of contributing to the continuous improvement of the program. The Agency will collect, analyze, and interpret information gathered through this generic clearance to identify strengths and weaknesses of current services and make improvements in service delivery based on feedback. The solicitation of feedback will target areas such as: Timeliness, appropriateness, accuracy of information, courtesy, efficiency of service delivery, and resolution of issues with service delivery.

Responses will be assessed to plan and inform efforts to improve or maintain the quality of service offered to the public. If this information is not collected, vital feedback from customers and stakeholders on the Agency's services will be unavailable.

The Agency will only submit a collection for approval under this generic clearance if it meets the following conditions:

• Information gathered will be used only internally for general service improvement and program management purposes and is not intended for release outside of the agency (if released, procedures outlined in Item 16 wil be followed);

• Information gathered will not be used for the purpose of substantially informing influential policy decisions; ¹

¹ As defined in OMB and agency Information Quality Guidelines, “influential” means that “an agency can reasonably determine that dissemination of the information will have or does have a clear and substantial impact on important public policies or important private sector decisions.”

• Information gathered will yield qualitative information; the collections will not be designed or expected to yield statistically reliable results or used as though the results are generalizable to the population of study;

• Response to the collections is voluntary;

• The collections present low-burden for respondents (based on considerations of total burden hours, total number of respondents, or burden-hours per respondent) and are low-cost for both the respondents and the Federal Government;

• The collections are non-controversial and do not raise issues of concern to other Federal agencies;

• Any collection is targeted to the solicitation of opinions from respondents who have experience with the corresponding program or may have experience with the program in the near future; and

• With the exception of information needed to provide renumeration for participants of focus groups and cognitive laboratory studies, personally identifiable information (PII) is collected only to the extent necessary and is not retained.

If these conditions are not met, the Agency will submit an information collection request to OMB for approval through the normal PRA process.

To obtain approval for a collection that meets the conditions of this generic clearance, a standardized form will be submitted to OMB along with supporting documentation (e.g., a copy of the comment card). The submission will have automatic approval, unless OMB identifies issues within 5 business days.

The types of collections that this generic clearance covers include, but are not limited to:

• Customer comment cards/complaint forms

• Small discussion groups

• Focus Groups of customers, potential customers, delivery partners, or other stakeholders

• Cognitive laboratory studies, such as those used to refine questions or assess usability of a Web site;

• Qualitative customer satisfaction surveys (e.g., post-transaction surveys; opt-out web surveys)

• In-person observation testing (e.g., Web site or software usability tests)

The Agency has established a manager/managing entity to serve for this generic clearance and will conduct an independent review of each information collection to ensure compliance with the terms of this clearance prior to submitting each collection to OMB.

Affected Public

Individuals representing companies engaged in business with the Export-Import Bank of the U.S.

Burden Hours

Annual Number of Respondents: 3200.

Estimated Time per Respondent: 45 minutes.

Annual Public Burden Hours: 2400 hours.

Frequency of Reporting of Use: On occasion.

Government Expense

Reviewing Time per Year: 1600 Hours.

Average Wages per Hour: $42.50.

Average Cost per Year: $68,000.

Benefits and Overhead: 20%.

Total Government Cost: $81,600.

Bassam Doughman,
Project Manager, Agency Clearance Officer, Office of the Chief Information Officer.

[FR Doc. 2017-11182 Filed 5-30-17; 8:45 am]

BILLING CODE 6690-01-P